DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Fisheries Finance Program Requirements.

OMB Control Number: 0648-0012.

Form Number(s): NOAA Form 88-1.

Type of Request: Regular (revision of a currently approved collection).

Number of Respondents: 60 new applications, 251 annual respondents.

Average Hours per Response: 10 hours for new applications, 2 hours for annual responses.

Burden Hours: 1,102.

Needs and Uses: NOAA's Fisheries Finance Program (FFP) is a direct loan program that receives an annual loan authority from Congress to provide long-term loans to the commercial fishing and aquaculture industries. Many of these loans are guaranteed by companies and/or people (guarantors) associated with the loan applicant. These guarantors may not be required to sign the loan application. These new forms (Guarantor Authorization to Obtain Consumer Credit Report and Conduct a Credit Inquiry) grant the FFP, in writing, permission to conduct a credit investigation on the guarantors.

Affected Public: People offering to guarantee a loan made by the FFP.

Frequency: Once, at the time of application.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2019-28103 Filed 12-27-19; 8:45 am]

BILLING CODE 3510-22-P